DEPARTMENT OF COMMERCE

National Oceanic and Atmospheric Administration

50 CFR Part 635

RIN 0648-XL77

Atlantic Highly Migratory Species; Inseason Action to Close the Commercial Porbeagle Shark Fishery

AGENCY: National Marine Fisheries Service (NMFS), National Oceanic and Atmospheric Administration (NOAA), Commerce.

ACTION: Fishery closures.

SUMMARY: NMFS is closing the commercial fishery for porbeagle sharks in the Atlantic Ocean and Gulf of Mexico. This action is necessary because the porbeagle shark quotas for the 2008 fishing season have reached or are projected to have reached at least 80 percent of the available quota.

DATES: The commercial porbeagle shark fishery is closed effective 11:30 p.m. local time November 18, 2008 until NMFS announces via a notice in the Federal Register that additional quota is available.

FOR FURTHER INFORMATION CONTACT: Karyl Brewster-Geisz, 301-713-2347; fax 301-713-1917.

SUPPLEMENTARY INFORMATION: The Atlantic shark fisheries are managed under the Consolidated Atlantic Highly Migratory Species (HMS) Fishery Management Plan (FMP) and its implementing regulations found at 50 CFR part 635 issued under authority of the Magnuson-Stevens Fishery Conservation and Management Act (16 U.S.C. 1801 et seq.).

Under 635.5(b)(1), shark dealers are required to report every two weeks. Dealer reports for fish received between the 1st and 15th of any month must be received by NMFS by the 25th of that month. Dealer reports for fish received between the 16th and the end of any month must be received by NMFS by the 10th of the following month. Under 50 CFR 635.28(b)(2), when NMFS projects that fishing season landings for a specific shark quota have reached or are about to reach 80 percent of the available quota, NMFS will file for publication with the Office of the Federal Register a notice of closure for that shark species group that will be effective no fewer than 5 days from the date of filing. From the effective date and time of the closure until NMFS announces, via a notice in the Federal Register, that additional quota is available and the season is reopened, the fishery for that specific quota is closed, even across fishing years.

On June 24, 2008 (73 FR 35778; corrected July 15, 2008, 73 FR 46058), NMFS announced that the porbeagle quota for the 2008 fishing year would be 1.7 metric tons (mt) dressed weight (dw) (3,748 lbs dw). In the September 23, 2008, landings update, sharks reported as unknowns were apportioned to species or species groups using observer data by number rather than weight. This method was originally used because it follows the procedures used in the stock assessment. However, while the stock assessment is done in number of sharks, quota monitoring is done by weight. As such, for this and all future updates, sharks reported as unknowns will be apportioned to species or species groups by weight. Thus, landings for some groups may differ from previous landings updates. Additionally, NMFS worked with the State of North Carolina to try to determine the amount of double reporting between state and federal landings. While doing this, NMFS discovered that many of North Carolina's landings of spiny dogfish were incorrectly reported as unknown or sandbar sharks. The latest update corrects this reporting error. Dealer reports through the October 15, 2008, reporting period indicated that 2.0 mt dw or 116.0 percent of the available quota for porbeagle sharks has been taken. Accordingly, NMFS is closing the commercial porbeagle shark fishery as of 11:30 p.m. local time November 18, 2008.

During the closure, retention of porbeagle sharks is prohibited for persons fishing aboard vessels issued a commercial shark limited access permit under 50 CFR 635.4, unless the vessel is permitted to operate as a charter vessel or headboat for HMS and is engaged in a for-hire trip, in which case the recreational retention limits for sharks and no sale provisions may apply (50 CFR 635.22(a) and (c)). The sale, purchase, trade, or barter or attempted sale, purchase, trade, or barter of carcasses and/or fins of porbeagle sharks harvested by a person aboard a vessel that has been issued a commercial shark limited access permit under 50 CFR 635.4, is prohibited, except for those that were harvested, offloaded, and sold, traded, or bartered prior to the closure, and were held in storage by a dealer or processor.

Classification

Pursuant to 5 U.S.C. 553(b)(B), the Assistant Administrator for Fisheries, NOAA (AA), finds that providing for prior notice and public comment for this action is impracticable and contrary to the public interest because the fishery is currently underway, and any delay in this action would cause further overharvest of the quota and be inconsistent with management requirements and objectives. Similarly, affording prior notice and opportunity for public comment on this action is contrary to the public interest because if the quota is exceeded, the affected public is likely to experience reductions in the available quota and a lack of fishing opportunities in future seasons. Thus, for these reasons, the AA also finds good cause to waive the 30-day delay in effective date pursuant to 5 U.S.C. 553 (d)(3). This action is required under 50 CFR 635.28(b)(2) and is exempt from review under Executive Order 12866.

Authority: 16 U.S.C. 1801 et seq.

Dated: November 12, 2008.
Emily H. Menashes,
Acting Director, Office of Sustainable Fisheries, National Marine Fisheries Service.

[FR Doc. E8-27327 Filed 11-13-08; 4:45 pm]

BILLING CODE 3510-22-S